FEDERAL RESERVE SYSTEM

Notice of Proposals To Engage in Permissible Nonbanking Activities or To Acquire Companies That Are Engaged in Permissible Nonbanking Activities; Correction

This notice corrects a notice (FR Doc. 2012-29742) published on page 73467 of the issue for Monday, December 10, 2012.

Under the Federal Reserve Bank of Richmond heading, the entry for Live Oak Bancshares, Inc., Wilmington, North Carolina, is revised to read as follows:

A. Federal Reserve Bank of Richmond (Adam M. Drimer, Assistant Vice President) 701 East Byrd Street, Richmond, Virginia 23261-4528:

1. Live Oak Bancshares, Inc., Wilmington, North Carolina; to acquire 100 percent of the voting shares of Government Loan Solutions, Inc., Cleveland, Ohio, and engage in providing support services in connection with the settlement, accounting, and securitization processes for government guaranteed loans, including loans originated under the U.S. Small Business Administration loan programs and USDA loans; and thereby indirectly acquire 51 percent of the voting shares of Secondary Market Access, LLC, Cleveland, Ohio, and thereby engage in activities related to extending credit, investment advisory, management consulting, and data processing activities, pursuant to sections 225.28(b)(1); (b)(2), (b)(6); (b)(9), and (b)(14), all of Regulation Y.

Comments on this application must be received by December 26, 2012.

Board of Governors of the Federal Reserve System, December 10, 2012.
Margaret McCloskey Shanks,
Deputy Secretary of the Board.

[FR Doc. 2012-30073 Filed 12-12-12; 8:45 am]

BILLING CODE 6210-01-P